DEPARTMENT OF EDUCATION

Applications for New Awards; Postsecondary Student Success Grant Program (PSSG)

AGENCY: Office of Postsecondary Education, Department of Education.

ACTION: Notice.

SUMMARY: The Department of Education (Department) is issuing a notice inviting applications (NIA) for fiscal year (FY) 2023 for the Postsecondary Student Success Grant Program (PSSG), Assistance Listing Number 84.116M. This notice relates to the approved information collection under OMB control number 1894-0006.

DATES:

Applications Available: July 26, 2023.

Deadline for Transmittal of Applications: September 25, 2023.

Deadline for Intergovernmental Review: November 24, 2023.

ADDRESSES: For the addresses for obtaining and submitting an application, please refer to our Common Instructions for Applicants to Department of Education Discretionary Grant Programs, published in the Federal Register on December 7, 2022 (87 FR 75045), and available at www.federalregister.gov/d/2022-26554. Please note that these Common Instructions supersede the version published on December 27, 2021.

FOR FURTHER INFORMATION CONTACT: Nemeka Mason-Clercin, U.S. Department of Education, 400 Maryland Avenue SW, 5th Floor, Washington, DC 20202-4260. Telephone: (202) 987-1340. Nalini Lamba-Nieves, U.S. Department of Education, 400 Maryland Avenue SW, Room 5C127, Washington, DC 20202-4260. Telephone: (202) 453-7953. Email: PSSG@ed.gov.

If you are deaf, hard of hearing, or have a speech disability and wish to access telecommunications relay services, please dial 7-1-1.

SUPPLEMENTARY INFORMATION:

Full Text of Announcement

I. Funding Opportunity Description

Purpose of Program: The purpose of this program is to equitably improve postsecondary student outcomes, including retention, transfer (including successful transfer of completed credits), credit accumulation, and completion, by leveraging data and implementing, scaling, and rigorously evaluating evidence-based activities to support data-driven decisions and actions by institutional leaders committed to inclusive student success.

Background: In today's economy, more than 60 percent of U.S. jobs require a postsecondary credential.¹ Data show that as educational attainment increases, median earnings steadily increase.² It is critical for institutions of higher education (IHEs) to provide support systems to improve retention, progression, and completion rates to decrease economic and social equity gaps for students of color and low-income students.

¹ https://cew.georgetown.edu/wp-content/uploads/2014/11/Recovery2020.FR_.Web_.pdf.

² www.bls.gov/emp/chart-unemployment-earnings-education.htm.

Students of color and low-income students still face barriers to successfully enrolling in and completing college. Between 2019 and 2021, there have been decreases in undergraduate enrollment for Native American students (7.9 percent decrease), Black students (7.3 percent decrease), and Hispanic students (5 percent decrease).³ From 2019 to 2022, there has been a decrease in enrollment for Pell grant recipients (9.9 percent).⁴ In addition, while graduation rates have increased in four-year institutions overall by 4.6 percentage points since 2015, double-digit graduation rate gaps between underrepresented students of color and white students remain, and there is a 9-percentage point gap in graduation rates between Pell and non-Pell students.⁵ The same is occurring in two-year institutions, with an overall graduation rate increase of 2.8 percentage points since 2012, but a declining rate for Hispanic and Black students, leading to increasing gaps between white students and underrepresented students of color.⁶

³ https://nces.ed.gov/programs/digest/d22/tables/dt22_306.10.asp?current=yes.

⁴ https://research.collegeboard.org/media/pdf/trends-in-student-aid-presentation-2022.pdf.

⁵ https://nces.ed.gov/ipeds/Search?query=&query2=&resultType=all&page=1&sortBy=date_desc&overlayTableId=32473.

⁶ https://nces.ed.gov/programs/digest/d21/tables/dt21_326.10.asp, https://nces.ed.gov/programs/digest/d21/tables/dt21_326.20.asp?current=yes, https://nces.ed.gov/ipeds/Search?query=&query2=&resultType=all&page=1&sortBy=date_desc&overlayTableId=32473.

Furthermore, as more “non-traditional” students attend college, additional and different supports are required to enable them to successfully complete their credentials. Today, 25 percent of postsecondary students are age 25 or older,⁷ about 70 percent of students work while enrolled,⁸ and 22 percent of students are parents.⁹ At community colleges,31 percent of students enrolled are age 25 or older,¹⁰ and 42 percent of all student parents attend community colleges.¹¹ Research has found that IHEs should employ a multifaceted and integrated approach in mitigating barriers that hinder students in their educational trajectories, addressing academic, financial and other barriers.¹² Moreover, IHEs that have improved completion rates use timely, disaggregated, actionable data to identify institutional barriers to student success, implement interventions, and evaluate impact on an on-going basis.¹³ Institutional leadership has been found to be critical to ensuring that the student experience is intentionally designed to increase student retention, persistence, and completion rates.¹⁴

⁷ https://nces.ed.gov/programs/digest/d22/tables/dt22_303.50.asp?current=yes.

⁸ https://cew.georgetown.edu/wp-content/uploads/Working-Learners-Report.pdf.

⁹ https://files.eric.ed.gov/fulltext/ED612580.pdf.

¹⁰ https://nces.ed.gov/programs/digest/d22/tables/dt22_303.50.asp?current=yes.

¹¹ https://files.eric.ed.gov/fulltext/ED612580.pdf.

¹² www.mdrc.org/sites/default/files/doubling_graduation_rates_fr.pdf.

¹³ Phillips, B.C., & Horowitz, J.E. (2013). Maximizing data use: A focus on the completion agenda. In Special Issue: The College Completion Agenda-Practical Approaches for Reaching the Big Goal. New Directions for Community Colleges, 2013(164), 17-25.

¹⁴ McNair, T.B., Albertine, S., McDonald, N., Major Jr, T., & Cooper, M.A. (2022). Becoming a student-ready college: A new culture of leadership for student success. John Wiley & Sons.

This grant program seeks to fund evidence-based (as defined in this notice) strategies that result in improved student outcomes for underserved students (as defined in this notice). The program has two absolute priorities that correspond to varying evidence standards. This multi-tiered competition invites applicants that are in the “early phase” or “mid-phase/expansion” of their evidence-based work to support students through degree completion. This grant also supports the evaluation, dissemination, scaling, and sustainability efforts of the activities funded under this grant.

In this competition, eligibility is limited to institutions that are designated as eligible under the HEA titles III and V programs, nonprofits that are not IHEs or associated with an IHE in partnership with institutions that are designated as eligible under the HEA titles III and V programs, States in partnerships with institutions that are designated as eligible under the HEA titles III and V programs, and public systems of institutions. Institutions designated as eligible under titles III and V include Historically Black Colleges or Universities (HBCUs), Tribally Controlled Colleges or Universities (TCCUs), Minority-Serving Institutions (MSIs) and other institutions with high enrollment of needy students and below average full-time equivalent (FTE) expenditures—including community colleges. The Department believes that targeting funding to these IHEs is the best use of the available funding because these institutions disproportionately enroll students from groups who are underrepresented among college completers, such as low-income students. Supporting retention and completion strategies at these institutions offers the greatest potential to close gaps in postsecondary outcomes. Additionally, these under resourced institutions are most in need of Federal assistance to implement and evaluate evidence-based postsecondary college retention and completion interventions.

Early-Phase

Early-phase grants provide funding to IHEs to develop, implement, and test the feasibility of a program that prior research suggests is likely to improve relevant outcomes, for the purpose of determining whether an initiative improves student retention and completion of postsecondary students. Early-phase grants must “demonstrate a rationale” (as defined in this notice) and include a logic model (as defined in this notice), theory of action, or another conceptual framework that includes the goals, objectives, outcomes, and key project components (as defined in this notice) of the project, and that demonstrates the relationship between such proposed activities and the relevant outcomes the project is designed to achieve. The evaluation design will be assessed on the extent to which it would meet What Works Clearinghouse (WWC) Evidence Standards with or without reservations. The evaluation of an Early-phase project should be an experimental or quasi-experimental design study (both as defined in this notice) that can determine whether the program can successfully improve postsecondary student success outcomes for underserved students.

Early-phase grantees during their grant period are encouraged to make continuous and iterative improvements in project design and implementation before conducting a full-scale evaluation of effectiveness. Grantees should consider how easily others could implement the proposed practice, and how its implementation could potentially be improved. Additionally, grantees should consider using data from early indicators to gauge initial impact and to consider possible changes in implementation that could increase student outcomes.

Mid-Phase/Expansion

Mid-phase/Expansion grants are supported by moderate evidence (as defined in this notice) or strong evidence (as defined in this notice), respectively. These grants provide funding to IHEs to improve and/or expand initiatives and practices that have been proven to be effective in increasing postsecondary student retention and completion. Mid-phase/Expansion projects should provide vital insight about an intervention's effectiveness, such as for whom and in which contexts a practice/intervention is most effective. Mid-phase grantees should also measure the cost-effectiveness of their practices using administrative or other readily available data.

Mid-phase/Expansion grant projects are distinctly situated to provide insight on scaling an initiative to a larger population of students or across multiple campuses.

These grants must be implemented at a multi-site sample (as defined in this notice) with more than one campus or in one campus that includes at least 2,000 students. Project evaluations must evaluate the effectiveness of the project at each site.

Mid-phase/Expansion grants must meet the “moderate evidence” threshold or “strong evidence” standard and include a logic model that demonstrates the relationship between the key project components and the relevant outcomes the project is designed to achieve. Mid-phase/Expansion grants are also required to submit an evaluation design that will be assessed on the extent to which it would meet WWC Evidence Standards without reservations.

Note that all research that meets the strong evidence standard also meets the moderate evidence standard. As such, the effective evidence standard for Absolute Priority 2 is moderate evidence. However, we encourage applicants to propose projects based on strong evidence and to expand services even beyond the scale requirements under Absolute Priority 2. We have combined the two types of grants into a single tier given funding limitations and the fact that this is the first year of implementing a tiered evidence structure in this program.

All Grant Tiers

PSSG applicants should consider how these evidence-based practices are implemented and the impact these practices have on their student population given their context. PSSG applicants seek to explore the effectiveness of practices/strategies that can improve student persistence and retention, leading to degree completion.

The evaluation of a PSSG project should be designed to determine whether the program can successfully improve postsecondary student persistence, retention, and completion. As previously stated, the evaluation design for early phase applications will be assessed on the extent to which it could meet WWC Evidence Standards with or without reservations while the evaluation design for mid phase/expansion applications will be assessed on the extent to which it could meet WWC Evidence Standards without reservations.

The Department intends to provide grantees and their independent evaluators with technical assistance in their evaluation, dissemination, scaling, and sustainability efforts. This could include grantees and their evaluators providing to the Department or its contractor updated comprehensive evaluation plans in a format as requested by the technical assistance provider and using such tools as the Department may request. Grantees will be encouraged to update this evaluation plan at least annually to reflect any changes to the evaluation. Updates must be consistent with the scope and objectives of the approved application.

PSSG applicants should consider their organizational capacity and the funding needed to sustain their projects and continue implementation and adaptation after Federal funding ends.

Priorities: This notice contains two absolute priorities and one competitive preference priority. We are establishing the absolute priorities and competitive preference priority for the FY 2023 grant competition and any subsequent year in which we make awards from the list of unfunded applications from this competition, in accordance with section 437(d)(1) of the General Education Provisions Act (GEPA), 20 U.S.C. 1232(d)(1). Applicants have the option of addressing the competitive preference priority and may opt to do so regardless of the absolute priority they select.

Absolute Priorities: For FY 2023 and any subsequent year in which we make awards from the list of unfunded applications from this competition, these priorities are absolute priorities. Under 34 CFR 75.105(c)(3), we consider only applications that meet one of these priorities.

These Priorities are:

Absolute Priority 1 (AP1)—Applications that Demonstrate a Rationale. “Early-phase”.

Under this priority, an applicant proposes a project that demonstrates a rationale to improve postsecondary success for underserved students, including retention and completion.

Absolute Priority 2 (AP2)—Applicants that Demonstrate Moderate Evidence, “Mid-phase” or Strong Evidence, “Expansion”.

Under this priority, an applicant proposes a project supported by evidence that meets the conditions in the definition of “Moderate Evidence” or “Strong Evidence,” to improve postsecondary success for underserved students, including retention and completion. Projects under this priority must be implemented at a multi-site sample or include at least 2,000 students.

(a) Applicants addressing this priority must:

(1) identify up to two studies to be reviewed against the WWC Handbooks (as defined in this notice) for the purposes of meeting the definition of moderate evidence or strong evidence;

(2) clearly identify the citations and relevant findings for each study in the Evidence form; and

(3) ensure that all cited studies are available to the Department from publicly available sources and provide links or other guidance indicating where each is available.

Note: The studies may have been conducted by the applicant or by a third party. The Department may not review a study that an applicant fails to clearly identify for review.

(b) In addition to including up to two study citations, an applicant must provide in the Evidence form the following information:

(1) the positive student outcomes the applicant intends to replicate under its Mid-phase/Expansion grant and how these outcomes correspond to the positive student outcomes in the cited studies;

(2) the characteristics of the population or setting to be served under its Mid-phase/Expansion grant and how these characteristics correspond to the characteristics of the population or setting in the cited studies; and

(3) the practice(s) the applicant plans to implement under its Mid-phase/Expansion grant and how the practice(s) correspond with the practice(s) in the cited studies.

Note: If the Department determines that an applicant has provided insufficient information, the applicant will not have an opportunity to provide additional information. However, if the WWC team reviewing evidence determines that a study does not provide enough information on key aspects of the study design, such as sample attrition or equivalence of intervention and comparison groups, the WWC may submit a query to the study author(s) to gather information for use in determining a study rating. Authors would be asked to respond to queries within 10 business days. Should the author query remain incomplete within 14 days of the initial contact to the study author(s), the study may be deemed ineligible under the grant competition. After the grant competition closes, the WWC will, for purposes of its own curation of studies, continue to include responses to author queries and make updates to study reviews as necessary. However, no additional information will be considered after the competition closes and the initial timeline established for response to an author query passes.

Competitive Preference Priority: For FY 2023, and any subsequent year in which we make awards from the list of unfunded applications from this competition, this priority is a competitive preference priority. Under 34 CFR 75.105(c)(2)(i), we award up to an additional 6 points to an application, depending on how well the application meets the competitive preference priority.

This priority is:

Applicants that have made progress towards or can demonstrate they have a plan to improve student outcomes for underserved students by using data to continually assess and improve the effectiveness of funded activities and sustain data-driven continuous improvement processes at the institution after the grant period (up to 6 points).

Applicants addressing this priority must:

(a) Identify or describe how they will develop the performance and outcome measures they will use to monitor and evaluate implementation of the intervention(s), including baseline data, intermediate and annual targets, and disaggregation by student subgroups (up to 2 points); (b) Describe how they will assess and address gaps in current data systems, tools, and capacity and how they will monitor and respond to performance and outcome data to improve implementation of the intervention on an ongoing basis and as part of formative and summative evaluation of the intervention(s)(up to 2 points); and (c) Describe how institutional leadership will be involved with and supportive of project leadership and how the project relates to the institution's broader student success priorities and improvement processes (up to 2 points).

Definitions: In accordance with section 437(d)(1) of GEPA, we are establishing definitions for “Students with disabilities,” “English learner,” “Minority-serving institution,” “multi-site sample” and “underserved student” ¹⁵ for the FY 2023 grant competition and any subsequent year in which we make awards from the list of unfunded applications from this competition. The remaining definitions are from 34 CFR 77.1.

¹⁵ The definitions of “Students with disabilities,” “English learner,” and “underserved student,” for the purposes of this competition, align with the definitions of these terms in the Secretary's Supplemental Priorities and Definitions for Discretionary Grant Programs, published in the Federal Register on December 10, 2021 (86 FR 70612) (Supplemental Priorities).

Baseline means the starting point from which performance is measured and targets are set.

Demonstrates a Rationale means a key project component included in the project's logic model is informed by research or evaluation findings that suggest the project component is likely to improve relevant outcomes.

English learner means an individual who is an English learner as defined in Section 8101(2) of the Elementary and Secondary Education Act of 1965, as amended, or an individual who is an English language learner as defined in section 203(7) of the Workforce Innovation and Opportunity Act.

Evidence-based means the proposed project component is supported by one or more of strong evidence, moderate evidence, promising evidence,¹⁶ or evidence that demonstrates a rationale.

¹⁶ The definition of “promising evidence” is from 34 CFR 77.1.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet WWC standards without reservations as described in the WWC Handbooks:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Logic model (also referred to as a theory of action) means a framework that identifies key project components of the proposed project (i.e., the active “ingredients” that are hypothesized to be critical to achieving the relevant outcomes) and describes the theoretical and operational relationships among the key project components and relevant outcomes.

Note: In developing logic models, applicants may want to use resources such as the Regional Educational Laboratory Program's (REL Pacific) Education Logic Model Application, available at https://ies.ed.gov/ncee/rel/regions/pacific/pdf/ELMUserGuideJune2014.pdf. Other sources include: https://ies.ed.gov/ncee/edlabs/regions/pacific/pdf/REL_2014025.pdf, and https://ies.ed.gov/ncee/edlabs/regions/northeast/pdf/REL_2015057.pdf.

Minority-serving institution means an institution that is eligible to receive assistance under sections 316 through 320 of part A of title III, under part B of title III, or under title V of the HEA.

Moderate Evidence means that there is evidence of effectiveness of a key project component in improving a relevant outcome for a sample that overlaps with the populations or settings proposed to receive that component, based on a relevant finding from one of the following:

(i) A practice guide prepared by the WWC using version 2.1, 3.0, 4.0, or 4.1 of the WWC Handbooks reporting a “strong evidence base” or “moderate evidence base” for the corresponding practice guide recommendation;

(ii) An intervention report prepared by the WWC using version 2.1, 3.0, 4.0, or 4.1 of the WWC Handbooks reporting a “positive effect” or “potentially positive effect” on a relevant outcome based on a “medium to large” extent of evidence, with no reporting of a “negative effect” or “potentially negative effect” on a relevant outcome; or

(iii) A single experimental study or quasi-experimental design study reviewed and reported by the WWC using version 2.1, 3.0, 4.0, or 4.1 of the WWC Handbooks, or otherwise assessed by the Department using version 4.1 of the WWC Handbooks, as appropriate, and that—(A) Meets WWC standards with or without reservations; (B) Includes at least one statistically significant and positive (i.e., favorable) effect on a relevant outcome; (C) Includes no overriding statistically significant and negative effects on relevant outcomes reported in the study or in a corresponding WWC intervention report prepared under version 2.1, 3.0, 4.0, or 4.1 of the WWC Handbooks; and (D) Is based on a sample from more than one site (e.g., State, county, city, school district, or postsecondary campus) and includes at least 350 students or other individuals across sites. Multiple studies of the same project component that each meet requirements in paragraphs (iii) (A), (B), and (C) of this definition may together satisfy the requirement in this paragraph (iii)(D).

Multi-site sample means at least two campuses of a single institution or multiple IHEs, including multiple IHEs within one public system of higher education.

Nonprofit, as applied to an agency, organization, or institution, means that it is owned and operated by one or more corporations or associations whose net earnings do not benefit, and cannot lawfully benefit, any private shareholder or entity.

Note: For purposes of this competition, this definition of Nonprofit does not apply to institutions of higher education or nonprofits that are a part of an IHE.

Performance measure means any quantitative indicator, statistic, or metric used to gauge program or project performance.

Performance target means a level of performance that an applicant would seek to meet during the course of a project or as a result of a project.

Project component means an activity, strategy, intervention, process, product, practice, or policy included in a project. Evidence may pertain to an individual project component or to a combination of project components (e.g., training teachers on instructional practices for English learners and follow-on coaching for these teachers).

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Relevant outcome means the student outcome(s) or other outcome(s) the key project component is designed to improve, consistent with the specific goals of the program.

Strong Evidence means that there is evidence of the effectiveness of a key project component in improving a relevant outcome for a sample that overlaps with the populations and settings proposed to receive that component, based on a relevant finding from one of the following:

(i) A practice guide prepared by the WWC using version 2.1, 3.0, 4.0, or 4.1 of the WWC Handbooks reporting a “strong evidence base” for the corresponding practice guide recommendation;

(ii) An intervention report prepared by the WWC using version 2.1, 3.0, 4.0, or 4.1 of the WWC Handbooks reporting a “positive effect” on a relevant outcome based on a “medium to large” extent of evidence, with no reporting of a “negative effect” or “potentially negative effect” on a relevant outcome; or

(iii) A single experimental study reviewed and reported by the WWC using version 2.1, 3.0, 4.0, or 4.1 of the WWC Handbooks, or otherwise assessed by the Department using version 4.1 of the WWC Handbooks, as appropriate, and that

(A) Meets WWC standards without reservations;

(B) Includes at least one statistically significant and positive (i.e., favorable) effect on a relevant outcome;

(C) Includes no overriding statistically significant and negative effects on relevant outcomes reported in the study or in a corresponding WWC intervention report prepared under version 2.1, 3.0, 4.0, or 4.1 of the WWC Handbooks; and

(D) Is based on a sample from more than one site (e.g., State, county, city, school district, or postsecondary campus) and includes at least 350 students or other individuals across sites. Multiple studies of the same project component that each meet requirements in paragraphs (iii)(A), (B), and (C) of this definition may together satisfy the requirement in this paragraph (iii)(D).

Students with disabilities means students with disabilities as defined in section 602(3) of the Individuals with Disabilities Education Act (IDEA) (20 U.S.C. 1401(3) and 34 CFR 300.8, or students with disabilities, as defined in the Rehabilitation Act of 1973 (29 U.S.C. 705(37), 705(202)(B)).

Underserved student means a student in one or more of the following subgroups:

(a) A student who is living in poverty or is served by schools with high concentrations of students living in poverty.

(b) A student of color.

(c) A student who is a member of a federally recognized Indian Tribe.

(d) An English learner.

(e) A student with a disability.

(f) A lesbian, gay, bisexual, transgender, queer or questioning, or intersex (LGBTQI+) student.

(g) A pregnant, parenting, or caregiving student.

(h) A student who is the first in their family to attend postsecondary education.

(i) A student enrolling in or seeking to enroll in postsecondary education for the first time at the age of 20 or older.

(j) A student who is working full-time while enrolled in postsecondary education.

(k) A student who is enrolled in, or is seeking to enroll in, postsecondary education who is eligible for a Pell Grant.

(l) An adult student in need of improving their basic skills or an adult student with limited English proficiency.

WWC Handbooks means the standards and procedures set forth in the WWC Standards Handbook, Versions 4.0 or 4.1, and WWC Procedures Handbook, Versions 4.0 or 4.1, or in the WWC Procedures and Standards Handbook, Version 3.0 or Version 2.1 (all incorporated by reference, see § 77.2). Study findings eligible for review under WWC standards can meet WWC standards without reservations, meet WWC standards with reservations, or not meet WWC standards. WWC practice guides and intervention reports include findings from systematic reviews of evidence as described in the WWC Handbooks documentation.

Note: The WWC Procedures and Standards Handbook (Version 4.1), as well as the more recent WWC Handbooks released in August 2022 (Version 5.0), are available at https://ies.ed.gov/ncee/wwc/Handbooks.

Waiver of Proposed Rulemaking: Under the Administrative Procedure Act (5 U.S.C. 553), the Department generally offers interested parties the opportunity to comment on proposed priorities, definitions, and requirements. Section 437(d)(1) of GEPA, however, allows the Secretary to exempt from rulemaking requirements regulations governing the first grant competition under a new or substantially revised program authority. This program, as a substantially revised program, qualifies for this exemption. To ensure timely grant awards, the Secretary has decided to forgo public comment on the priorities, definitions, and requirements under section 437(d)(1) of GEPA. These priorities, definitions, and requirements will apply to the FY 2023 grant competition and any subsequent year in which we make awards from the list of unfunded applications from this competition.

Program Authority: 20 U.S.C. 1138-1138d; House Report 117-403 and the Explanatory Statement accompanying Division H of the Consolidated Appropriations Act, 2023 (Pub. L. 117-328).

Note: Projects will be awarded and must be operated in a manner consistent with the nondiscrimination requirements contained in the Federal civil rights laws.

Applicable Regulations: (a) The Education Department General Administrative Regulations in 34 CFR parts 75, 77, 79, 82, 84, 86, 97, 98, and 99. (b) The Office of Management and Budget Guidelines to Agencies on Governmentwide Debarment and suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 86 apply to institutions of higher education only.

II. Award Information

Type of Award: Discretionary grant.

Estimated Available Funds: $44,550,000.

These estimated available funds are the total available for new awards for both types of grants under PSSG (Early-phase and Mid-phase/Expansion grants).

Early-phase—$22,275,000 for AP1.

Mid-phase/Expansion—$22,275,000 for AP2.

Contingent upon the availability of funds and the quality of applications, we may make additional awards in subsequent years from the list of unfunded applications from this competition.

Estimated Range of Awards:

Early-phase (AP1)—$2,000,000-$4,000,000 for 48 months.

Mid-phase/Expansion (AP2)—$6,000,000-$8,000,000 for 48 months.

Estimated Average Size of Awards:

Early-phase (AP1)—$3,000,000 for 48 months.

Mid-phase/Expansion (AP2)—$7,000,000 for 48 months.

Maximum Awards: We will not make awards exceeding the following amounts for a 48-month budget period.

Early-phase (AP1)—$4,000,000.

Mid-phase/Expansion (AP2)—$8,000,000.

Estimated Number of Awards:

Early-phase (AP1)—5-8.

Mid-phase/Expansion (AP2)—3-4.

Note: The Department is not bound by any estimates in this notice.

Project Period: Up to 48 months.

III. Eligibility Information

1. Eligible Applicants: Institutions designated as eligible to apply under Title III/V (which includes HBCUs, TCCUs, MSIs and SIP); nonprofits that are not an IHE or part of an IHE, in partnership with at least one eligible Title III/V IHE; a State, in partnership with at least one eligible Title III/V IHE; or a public system of higher education institutions.

Note: The notice announcing the FY 2023 process for designation of eligible institutions, and inviting applications for waiver of eligibility requirements, was published in the Federal Register on January 17, 2023 (88 FR 2611). Only institutions that the Department determines are eligible, or which are granted a waiver under the process described in the January 17, 2023, notice, and that meet the other eligibility requirements described in this notice, may apply for a grant under this program. To determine if your institution is eligible for this grant program please visit, https://www2.ed.gov/about/offices/list/ope/idues/eligibility.html.

Institutions must include their FY 2023 Eligibility Letter in their application packet under other attachments. To retrieve the letter, please visit https://hepis.ed.gov/main.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: Each grant recipient must provide, from Federal, State, local, or private sources, an amount equal to or exceeding 10 percent of funds requested under the grant, which may be provided in cash or through in-kind contributions, to carry out activities supported by the grant. Applicants must include a budget showing their matching contributions to the budget amount requested of PSSG funds.

The Secretary may waive the matching requirement on a case-by-case basis, upon a showing of exceptional circumstances, such as:

(i) The difficulty of raising matching funds for a program to serve a high poverty area defined as a Census tract, a set of contiguous Census tracts, an American Indian Reservation, Oklahoma Tribal Statistical Area (as defined by the U.S. Census Bureau), Alaska Native Village Statistical Area or Alaska Native Regional Corporation Area, Native Hawaiian Homeland Area, or other tribal land as defined by the Secretary in guidance or county that has a poverty rate of at least 25 percent as set every 5 years using American Community Survey 5-Year data;

(ii) Serving a significant population of low-income students defined as at least 50 percent (or meet the eligibility threshold ¹⁷ for the appropriate institutional sector) of degree-seeking enrolled students receiving need-based grant aid under Title IV; or

¹⁷ Request for Designation as an Eligible Institution and Waiver of the Non-Federal Cost Share Requirement.

(iii) Showing significant economic hardship as demonstrated by low average educational and general expenditures per full-time equivalent undergraduate student, in comparison with the average educational and general expenditures per full-time equivalent undergraduate student of institutions that offer similar instruction.

Note: Institutions seeking to waive the matching requirement must provide the outlined waiver request information within their application.

b. Supplement-Not-Supplant: This competition involves supplement-not-supplant funding requirements. This program uses the waiver authority of section 437(d)(1) of GEPA to establish this as a supplement-not-supplant program. Grant funds must be used so that they supplement and, to the extent practical, increase the funds that would otherwise be available for the activities to be carried out under the grant and in no case supplant those funds.

c. Indirect Cost Rate Information: This program limits a grantee's indirect cost reimbursement to eight percent of a modified total direct cost base. We are establishing this indirect cost limit for the FY 2023 grant competition and any subsequent year in which we make awards from the list of unfunded applications from this competition in accordance with section 437(d)(1) of GEPA. For more information regarding indirect costs, or to obtain a negotiated indirect cost rate, please see www2.ed.gov/about/offices/list/ocfo/intro.html.

d. Administrative Cost Limitation: This program does not include any program-specific limitation on administrative expenses. All administrative expenses must be reasonable and necessary and conform to Cost Principles described in 2 CFR part 200 subpart E of the Uniform Guidance.

3. Subgrantees: A grantee under this competition may award subgrants to entities to directly carry out project activities described in its application. The grantee may award subgrants to entities it has identified in an approved application.

4. Evaluation: This program uses the waiver authority of section 437(d)(1) of GEPA to require a grantee to conduct an independent evaluation of the effectiveness of its project.

5. Other Requirements: Applicants may only apply to one absolute priority “tier”. One application per applicant.

IV. Application and Submission Information

1. Application Submission Instructions: Applicants are required to follow the Common Instructions for Applicants to Department of Education Discretionary Grant Programs, published in the Federal Register on December 7, 2022 (87 FR 75045), and available at www.federalregister.gov/d/2022-26554, which contain requirements and information on how to submit an application. Please note that these Common Instructions supersede the version published on December 27, 2021.

2. Intergovernmental Review: This program is subject to Executive Order 12372 and the regulations in 34 CFR part 79. Information about Intergovernmental Review of Federal Programs under Executive Order 12372 is in the application package for this program.

3. Funding Restrictions: We reference regulations outlining funding restrictions in the Applicable Regulations section of this notice.

4. Recommended Page Limit: The application narrative is where you, the applicant, address the selection criteria that reviewers use to evaluate your application. We recommend that you (1) limit the application narrative to no more than 30 pages and (2) use the following standards:

• A “page” is 8.5″ x 11″, on one side only, with 1″ margins at the top, bottom, and both sides.

• Double-space (no more than three lines per vertical inch) all text in the application narrative, including titles, headings, footnotes, quotations, references, and captions as well as all text in charts, tables, figures, and graphs.

• Use a font that is either 12 point or larger, and no smaller than 10 pitch (characters per inch).

• Use one of the following fonts: Times New Roman, Courier, Courier New, or Arial.

The recommended 30-page limit does not apply to the cover sheet; the budget section, including the narrative budget justification; the assurances and certifications; or the one-page abstract. However, the recommended page limit does apply to all of the application narrative.

Note: The Budget Information-Non-Construction Programs Form (ED 524) Sections A-C are not the same as the narrative response to the Budget section of the selection criteria.

V. Application Review Information

1. Selection Criteria: The selection criteria for this competition are from 34 CFR 75.210. The points assigned to each criterion are indicated in the parentheses next to the criterion. An applicant may earn up to a total of 100 points based on the selection criteria for the application. An applicant that also chooses to address the competitive preference priority can earn up to 106 total points.

1.1 Absolute Priority One—Early-Phase Selection Criteria

(a) Significance. (up to 20 points)

(1) The Secretary considers the significance of the proposed project.

(2) In determining the significance of the proposed project, the Secretary considers the extent to which the proposed project involves the development or demonstration of promising new strategies that build on, or are alternatives to, existing strategies.

(b) Quality of the Project Design. (up to 30 points)

(1) The Secretary considers the quality of the design of the proposed project.

(2) In determining the quality of the design of the proposed project, the Secretary considers the following factors:

(i) The extent to which there is a conceptual framework underlying the proposed research or demonstration activities and the quality of that framework. (up to 10 points)

(ii) The extent to which the goals, objectives, and outcomes to be achieved by the proposed project are clearly specified and measurable. (up to 5 points)

(iii) The extent to which the design of the proposed project is appropriate to, and will successfully address, the needs of the target population or other identified needs. (up to 15 points)

(c) Quality of Project Personnel. (up to 10 points)

(1) The Secretary considers the quality of the personnel who will carry out the proposed project.

(2) In determining the quality of project personnel, the Secretary considers the extent to which the applicant encourages applications for employment from persons who are members of groups that have traditionally been underrepresented based on race, color, national origin, gender, age, or disability. (up to 5 points)

(3) In addition, the Secretary considers the qualifications, including relevant training and experience, of key project personnel. (up to 5 points)

(d) Quality of the Management Plan. (up to 10 points)

(1) The Secretary considers the quality of the management plan for the proposed project.

(2) In determining the quality of the management plan, the Secretary considers the adequacy of the management plan to achieve the objectives of the proposed project on time and within budget, including clearly defined responsibilities, timelines, and milestones for accomplishing project tasks. (up to 10 points)

(e) Quality of the Project Evaluation. (up to 30 points)

(1) The Secretary considers the quality of the evaluation to be conducted of the proposed project.

(2) In determining the quality of the evaluation, the Secretary considers the following factors:

(i) The extent to which the methods of evaluation will, if well implemented, produce evidence about the project's effectiveness that would meet the WWC standards with or without reservations as described in the WWC Handbook. (up to 20 points)

(ii) The extent to which the methods of evaluation will provide performance feedback and permit periodic assessment of progress toward achieving intended outcomes. (up to 5 points)

(iii) The extent to which the evaluation plan clearly articulates the key project components, mediators, and outcomes, as well as a measurable threshold for acceptable implementation. (up to 5 points)

1.2 Absolute Priority Two—Mid-Phase/Expansion Selection Criteria

(a) Significance. (up to 15 points)

(1) The Secretary considers the significance of the proposed project.

(2) In determining the significance of the proposed project, the Secretary considers the following factors:

(i) The national significance of the proposed project. (up to 5 points)

(ii) The extent to which the proposed project involves the development or demonstration of promising new strategies that build on, or are alternatives to, existing strategies. (up to 5 points)

(iii) The potential contribution of the proposed project to increased knowledge or understanding of educational problems, issues, or effective strategies. (up to 5 points)

(b) Strategy to Scale. (up to 35 points)

(1) The Secretary considers the applicant's strategy to scale the proposed project.

(2) In determining the applicant's capacity to scale the proposed project, the Secretary considers the following factors:

(i) The extent to which the applicant identifies a specific strategy or strategies that address a particular barrier or barriers that prevented the applicant, in the past, from reaching the level of scale that is proposed in the application. (up to 15 points)

(ii) The adequacy of the management plan to achieve the objectives of the proposed project on time and within budget, including clearly defined responsibilities, timelines, and milestones for accomplishing project tasks. (up to 5 points)

(iii) The mechanisms the applicant will use to broadly disseminate information on its project so as to support further development or replication. (up to 15 points)

(c) Quality of the Project Design. (up to 15 points)

(1) The Secretary considers the quality of the design of the proposed project.

(2) In determining the quality of the design of the proposed project, the Secretary considers the following factors:

(i) The extent to which there is a conceptual framework underlying the proposed research or demonstration activities and the quality of that framework. (up to 5 points)

(ii) The extent to which the goals, objectives, and outcomes to be achieved by the proposed project are clearly specified and measurable. (up to 5 points)

(iii) The extent to which the design of the proposed project is appropriate to, and will successfully address, the needs of the target population or other identified needs. (up to 5 points)

(d) Quality of the Project Evaluation. (up to 35 points)

(1) The Secretary considers the quality of the evaluation to be conducted of the proposed project.

(2) In determining the quality of the evaluation, the Secretary considers the following factors:

(i) The extent to which the methods of evaluation will, if well implemented, produce evidence about the project's effectiveness that would meet the WWC standards without reservations as described in the WWC Handbook. (up to 20 points)

(ii) The extent to which the evaluation will provide guidance about effective strategies suitable for replication or testing in other settings. (up to 5 points)

(iii) The extent to which the evaluation plan clearly articulates the key project components, mediators, and outcomes, as well as a measurable threshold for acceptable implementation. (up to 5 points)

(iv) The extent to which the methods of evaluation will provide performance feedback and permit periodic assessment of progress toward achieving intended outcomes. (up to 5 points)

Note: Applicants may wish to review the following technical assistance resources on evaluation: (1) WWC Procedures and Standards Handbooks: https://ies.ed.gov/ncee/wwc/Handbooks; (2) “Technical Assistance Materials for Conducting Rigorous Impact Evaluations”: https://ies.ed.gov/ncee/projects/evaluationTA.asp; and (3) IES/NCEE Technical Methods papers: https://ies.ed.gov/ncee/tech_methods/. In addition, applicants may view an optional webinar recording that was hosted by the Institute of Education Sciences. The webinar focused on more rigorous evaluation designs, discussing strategies for designing and executing experimental studies that meet WWC evidence standards without reservations. This webinar is available at: https://ies.ed.gov/ncee/wwc/Multimedia/18.

2. Review and Selection Process: Potential applicants are reminded that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

A panel of non-Federal reviewers will review and score each application in accordance with the selection criteria. The Department will prepare a rank order of applications for each Absolute Priority based solely on the evaluation of their quality according to the selection criteria and competitive preference priority points. Awards will be made in rank order according to the average score received from the peer review. The rank order of applications for each Absolute Priority will be used to create two slates.

Before making awards, we will screen applications submitted in accordance with the requirements in this notice to determine whether applications have met eligibility and other requirements. This screening process may occur at various stages of the process; applicants that are determined to be ineligible will not receive a grant, regardless of peer reviewer scores or comments.

Tiebreaker: Within each slate, if there is more than one application with the same score and insufficient funds to fund all the applications with the same ranking, the Department will apply the following procedure to determine which application or applications will receive an award:

First Tiebreaker: The first tiebreaker will be the applicant with the highest percentage of undergraduate students who are Pell grant recipients. If a tie remains, the second tiebreaker will be utilized.

Second Tiebreaker: The second tiebreaker will be the highest average score for the selection criterion titled “Significance.”

3. Risk Assessment and Specific Conditions:

Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements:

We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements, please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purpose of Department reporting under 34 CFR 75.110, the Department has established a set of required performance measures (as defined in this notice):

(1) First-year credit accumulation.

(2) Annual retention (at initial institution) and persistence (at any institution) rates.

(3) Success rates including graduation and upward transfer for two-year institutions.

(4) Time to credential.

(5) Number of credentials conferred.

Note: All measures should be disaggregated by race/ethnicity and Pell grant recipient status and should be inclusive of all credential-seeking students (e.g., full-time and part-time, first-time and transfer-in.)

Project-Specific Performance Measures: Applicants must propose project-specific performance measures and performance targets (both as defined in this notice) consistent with the objectives of the proposed project.

Applications must provide the following information as directed under 34 CFR 75.110(b):

(1) Performance measures. How each proposed performance measure would accurately measure the performance of the project and how the proposed performance measure would be consistent with the performance measures established for the program funding the competition.

(2) Baseline (as defined in this notice) data. (i) Why each proposed baseline is valid; or (ii) if the applicant has determined that there are no established baseline data for a particular performance measure, an explanation of why there is no established baseline and of how and when, during the project period, the applicant would establish a valid baseline for the performance measure.

(3) Performance targets. Why each proposed performance target is ambitious yet achievable compared to the baseline for the performance measure and when, during the project period, the applicant would meet the performance target(s).

Applications must also provide the following information as directed under 34 CFR 75.110(c):

(1) Data collection and reporting. (i) The data collection and reporting methods the applicant would use and why those methods are likely to yield reliable, valid, and meaningful performance data; and (ii) the applicant's capacity to collect and report reliable, valid, and meaningful performance data, as evidenced by high-quality data collection, analysis, and reporting in other projects or research.

Depending on the nature of the intervention proposed in the application, common metrics may include the following: college-level math and English course completion in the first year (developmental education); unmet financial need (financial aid); program of study selection in the first year (advising); post-transfer completion (transfer); and re-enrollment (degree reclamation).

These measures constitute the Department's indicators of success for this program. Consequently, we advise an applicant for an award under this program to consider the operationalization of the measures in conceptualizing the approach and evaluation for its proposed project.

If funded, you will be required to collect and report data in your project's annual performance report (34 CFR 75.590).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Nasser H. Paydar,
Assistant Secretary for Postsecondary Education.

[FR Doc. 2023-15780 Filed 7-25-23; 8:45 am]

BILLING CODE 4000-01-P